DEPARTMENT OF COMMERCE

National Oceanic and Atmospheric Administration

[RTID 0648-XE795]

Takes of Marine Mammals Incidental to Specified Activities; Taking Marine Mammals Incidental to U.S. Coast Guard Base Kodiak Homeporting Facility in Kodiak, Alaska

AGENCY: National Marine Fisheries Service (NMFS), National Oceanic and Atmospheric Administration (NOAA), Commerce.

ACTION: Notice; issuance of incidental harassment authorization.

SUMMARY: In accordance with regulations implementing the Marine Mammal Protection Act (MMPA) as amended, notification is hereby given that NMFS has issued two consecutive incidental harassment authorizations (IHA) to the United States Coast Guard (USCG) for authorization to take marine mammals incidental to Base Kodiak Homeporting Facility in Womens Bay, Kodiak, Alaska.

DATES: The year 1 authorization is effective from May 19, 2025, through May 18, 2026. The year 2 authorization is effective from May 19, 2026, through May 18, 2027.

ADDRESSES: Electronic copies of the application and supporting documents, as well as a list of the references cited in this document, may be obtained online at: https://www.fisheries.noaa.gov/national/marine-mammal-protection/incidental-take-authorizations-construction-activities. In case of problems accessing these documents, please call the contact listed below.

FOR FURTHER INFORMATION CONTACT: Kate Fleming, Office of Protected Resources, NMFS, (301) 427-8401.

SUPPLEMENTARY INFORMATION:

MMPA Background and Determinations

The MMPA prohibits the “take” of marine mammals, with certain exceptions. Among the exceptions is section 101(a)(5)(D) of the MMPA (16 U.S.C. 1361 et seq.) which directs the Secretary of Commerce (as delegated to NMFS) to allow, upon request, the incidental, but not intentional, taking by harassment of small numbers of marine mammals by U.S. citizens who engage in a specified activity (other than commercial fishing) within a specified geographical region if certain findings are made and the public has an opportunity to comment on the proposed IHA.

Specifically, NMFS will issue an IHA if it finds that the taking will have a negligible impact on the species or stock(s) and will not have an unmitigable adverse impact on the availability of the species or stock(s) for taking for subsistence uses (where relevant). Further, NMFS must prescribe the permissible methods of taking and other “means of effecting the least [practicable] adverse impact” on the affected species or stocks and their habitat, paying particular attention to rookeries, mating grounds, and areas of similar significance, and on the availability of such species or stocks for taking for certain subsistence uses (referred to here as “mitigation”). NMFS must also prescribe requirements pertaining to monitoring and reporting of such takings. The definition of key terms such as “take,” “harassment,” and “negligible impact” can be found in the MMPA and the NMFS' implementing regulations (see 16 U.S.C. 1362; 50 CFR 216.103).

On March 14, 2025, a notice of NMFS' proposal to issue two consecutive IHAs to USCG for take of marine mammals incidental to Base Kodiak Homeporting Facility construction in Womens Bay, Kodiak, Alaska, was published in the Federal Register (90 FR 12204). In that notice, NMFS indicated the estimated numbers, type, and methods of incidental take proposed for each species or stock and the mitigation, monitoring, and reporting measures that would be required should the IHAs be issued. The Federal Register notification (FRN) also included analysis to support NMFS' preliminary conclusions and determinations that the IHAs, if issued, would satisfy the requirements of section 101(a)(5)(D) of the MMPA for issuance of the IHAs. The FRN included web links to a draft IHA for review and other supporting documents.

No comments were received during the public comment period. There are no changes to the specified activity, the species taken, the proposed numbers, type, or methods of take, or the mitigation, monitoring, or reporting measures in the proposed IHA notice. No new information that would change any of the preliminary analyses, conclusions, or determinations in the proposed IHA notice has become available since that notice was published and, therefore, the preliminary analyses, conclusions, and determinations included in the proposed IHA are considered final.

While there are no changes from the proposed authorization, the following clarifies a discrepancy in the notice of the proposed IHA (90 FR 12204, March 14, 2025). NMFS indicated in table 2 of notice of the proposed IHA, that in year 2, USCG planned to install 36-inch permanent piles using vibratory installation at a rate of 4 piles per day, and 36-inch temporary piles using vibratory installation of 6 piles per day. However, the Level A harassment isopleths for all 36-inch piles (temporary and permanent) were estimated based on 6 piles per day in the year 2 draft IHA (and table 9 of the notice of the proposed IHA, 90 FR 12204, March 14, 2025). After publication of the proposed IHA, USCG indicated that it would like to preserve flexibility to install up to 6 36-inch permanent piles in a day, and therefore, the final year 2 IHA Level A harassment isopleths for all 36-inch piles (temporary and permanent) were estimated based on 6 piles per day as included in the proposed year 2 IHA.

National Environmental Policy Act

To comply with the National Environmental Policy Act of 1969 (NEPA; 42 U.S.C. 4321 et seq.) and NOAA Administrative Order (NAO) 216-6A, NMFS must review our proposed action (i.e., the issuance of an IHA) with respect to potential impacts on the human environment.

This action is consistent with categories of activities identified in Categorical Exclusion B4 (IHAs with no anticipated serious injury or mortality) of the Companion Manual for NAO 216-6A, which do not individually or cumulatively have the potential for significant impacts on the quality of the human environment and for which we have not identified any extraordinary circumstances that would preclude this categorical exclusion. Accordingly, NMFS has determined that the issuance of the IHAs qualifies to be categorically excluded from further NEPA review.

Endangered Species Act

Section 7(a)(2) of the Endangered Species Act of 1973 (ESA; 16 U.S.C. 1531 et seq.) requires that each Federal agency insure that any action it authorizes, funds, or carries out is not likely to jeopardize the continued existence of any endangered or threatened species or result in the destruction or adverse modification of designated critical habitat. To ensure ESA compliance for the issuance of IHAs, NMFS consults internally whenever we propose to authorize take for endangered or threatened species.

There are three marine mammal species (humpback whale (Mexico and Western North Pacific DPSs), fin whale, and Steller sea lion (western DPS) with potential occurrence in the project area that is listed as endangered under the ESA. The NMFS Alaska Regional Office Protected Resources Division issued a Biological Opinion on May 7, 2025 under section 7 of the ESA, on the issuance of two consecutive IHAs to USCG under 101(a)(5)(D) of the MMPA by the NMFS Permits and Conservation Division. The Biological Opinion concluded that the action is not likely to jeopardize the continued existence of humpback whale (Mexico and Western N. Pacific DPSs), fin whale or Steller sea lion (western DPS), and is not likely to destroy or adversely modify humpback whale or Steller sea lion critical habitat.

Authorization

Accordingly, consistent with the requirements of section 101(a)(5)(D) of the MMPA, NMFS has issued two consecutive IHAs to USCG for authorization to take marine mammals incidental to Base Kodiak Vessel Homeporting Facility Project in Womens Bay, Kodiak, Alaska.

Dated: May 13, 2025.
Kimberly Damon-Randall,
Director, Office of Protected Resources, National Marine Fisheries Service.

[FR Doc. 2025-08933 Filed 5-19-25; 8:45 am]

BILLING CODE 3510-22-P